DEPARTMENT OF JUSTICE

Notice of Lodging of Consent Decree and Stipulation of Settlement and Order of Dismissal Under the Comprehensive Environmental Response, Compensation and Liability Act

Notice is hereby given that on October 15, 2002, two proposed settlement agreements were lodged with the United District Court of Northern District of Indiana in the matter of United States v. American Standard, Inc. et al., Civil No. 3:01CV0513RM. One proposed agreement is titled “Consent Decree with Group Defendants and Other Potentially Responsible Persons for Recovery of Past Response Costs” (“Consent Decree”) and the other is titled “Stipulation of Settlement and Order of Dismissal Between United States and Exide Corporation” (“Stipulation of Settlement”).

In its Complaint, the United States seeks to recover response costs incurred by the United States in connection with the Four County Landfill Site in Fulton County, Indiana (the “Site”). The complaint alleges that the United States undertook response actions as a result of releases or threatened releases of hazardous substances at the Site, and that the defendants named in the complaint were jointly and severally liable for the costs of such response actions.

Under the proposed Consent Decree, a group of ten defendants (along with 28 additional parties who allegedly contributed hazardous wastes to the Site) will pay $213,915 to the Hazardous Substances Superfund as partial reimbursement of response costs that the United States paid in connection with the Site through April 30, 2002. Under the proposed Stipulation of Settlement, Exide has agreed to the entry of judgment against it for $35,405 in settlement of the United States' claims for recovery of response cost that the United States paid in connection with the Site through May 2, 2002. Exide filed a voluntary petition for bankruptcy in the United States Bankruptcy Court for the District of Delaware on April 15, 2000, which was docketed as In Re Exide Technologies, et al., Bankruptcy No 02-11125. Under the terms of the Stipulation of Settlement, the United States shall be allowed a general unsecured claim in the bankruptcy proceeding for the agreed judgment amount of $35,405. Only the amount of cash received by Environmental Protection Agency (“EPA”) on its general unsecured claim shall be credited by EPA to the Hazardous Substance Superfund.

The Department of Justice will receive, for a period of thirty (30) days from the date of this publication, comments relating to the proposed Consent Decree and the proposed Stipulation of Settlement. Comments should be addressed to the Assistant Attorney General, Environmental and Natural Resources Division, PO Box 7611, U.S. Department of Justice, Washington, DC 20044-7611, and should refer to United States v. American Standard, Inc., et al., D.J. Ref. 90-11-3-07510.

The proposed Consent Decree and the proposed Stipulation of Settlement may be examined at the Office of the United States Attorney, 204 S. Main Street, South Bend, Indiana, 46601, and at U.S. EPA Region 5, 77 West Jackson Boulevard, Chicago, Illinois, 60604. A copy of the proposed Consent Decree, the proposed Stipulation of Settlement, or both, may also be obtained by mail from the Consent Decree Library, P.O. Box 7611, U.S. Department of Justice, Washington, DC 20044-7611 or by faxing a request to Tonia Fleetwood, fax no. (202) 514-0097, phone confirmation number (202) 514-1547. In requesting a copy of the Consent Decree, please enclose a check in the amount of $7.25 (25 cents per page reproduction cost) payable to the U.S. Treasury. In requesting a copy of the Stipulation of Settlement, please enclose a check of $5.75 (25 cents per page) payable to the U.S. Treasury.

William D. Brighton,
Assistant Chief, Environmental Enforcement Section, Environment and Natural Resources Division.

[FR Doc. 02-28239 Filed 11-5-02; 8:45 am]

BILLING CODE 4410-15-M